DEPARTMENT OF ENERGY

Federal Energy Regulatory Commission

[Docket No. IC01-523-000, FERC-523]

Proposed Information Collection and Request for Comments

January 26, 2001.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Consideration will be given to comments submitted on or before April 2, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425, and by e-mail at mike.miller@ferc.fed.us.

SUPPLEMENTARY INFORMATION: The information collected under the requirements of FERC-523 “Applications for Authorization of Issuance of Securities” (OMB No. 1902-0043) is used by the Commission to implement the statutory provisions of sections 19, 20 and 204 of the Federal Power Act (FPA), 16 U.S.C. 792-828c. Under the FPA a public utility or licensee must obtain Commission authorization for the issuance of securities or the assumption of liabilities pursuant to the sections identified above. Public utilities or licensees are not permitted to issue securities or assume any obligations or liabilities as guarantor, indorser, or surety or otherwise in respect of any other security of another person, unless and until, they have submitted an application to the Commission who will in turn, issues an order authorizing assumption of the liability or issuance of securities. The information filed in applications to the Commission is used to determine the Commission's acceptance and/or rejection for granting authorization for either issuances of securities or assumptions of obligations or liabilities to licensees and public utilities. The Commission implements these filing requirements in the Code of Federal Regulations (CFR) under 18 CFR parts 20, 34, 131.43, 131.50.

Action: The Commission is requesting a three-year extension of the current expiration date.

Burden Statement: Public reporting burden for this collection is estimated as:

No. of respondents annually | No. of responses per respondent | Average burden hours per response | Total annual burden hours
(1) | (2) | (3) | (1) x (2) x (3)
60 | 1 | 110 | 6,600

Estimated cost burden to respondents: 6,600 hours divided by 2080 hours per year times $115,357 per year equals $366,036. The cost per respondent is equal to $6,100.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the Commission's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

David P. Boergers,
Secretary.

[FR Doc. 01-2729 Filed 1-31-01; 8:45 am]

BILLING CODE 6717-01-M